DEPARTMENT OF HEALTH AND HUMAN SERVICES

Request for Nominations for the National Advisory Council on Nurse Education and Practice

AGENCY: Health Resources and Services Administration (HRSA), Department of Health and Human Services (HHS).

ACTION: Notice of request for nominations.

SUMMARY: HRSA is requesting nominations to fill vacancies on the National Advisory Council on Nurse Education and Practice (NACNEP). The NACNEP is authorized by Section 851 of the Public Health Service (PHS) Act, as amended. The Advisory Council is governed by the provisions of the Federal Advisory Committee Act (FACA), as amended, which sets forth standards for the formation and use of advisory committees, and applies to the extent that the provisions of FACA do not conflict with the requirements of PHS Act Section 851.

DATES: HRSA will receive nominations on a continuous basis.

ADDRESSES: Written nominations for membership can be submitted to Advisory Council Operations, Bureau of Health Workforce, HRSA, 5600 Fishers Lane, Room 11W45C, Rockville, Maryland 20857 or sent by email to BHWAdvisoryCouncil@hrsa.gov.

FOR FURTHER INFORMATION CONTACT: Tracy L. Gray, MBA, MS, RN, Designated Federal Official, NACNEP, by phone at 301-443-3346 or by email at TGray1@hrsa.gov. A copy of the current committee membership, charter, and reports can be obtained by accessing the NACNEP website at https://www.hrsa.gov/advisory-committees/nursing/index.html.

SUPPLEMENTARY INFORMATION: The NACNEP provides advice and recommendations to the Secretary of the Department of Health and Human Services (Secretary), the Senate Committee on Health, Education, Labor and Pensions, and the House of Representatives Committee on Energy and Commerce concerning policy matters arising in the administration of the activities under Title VIII of the PHS Act, as amended, including the range of issues related to the nurse workforce, nursing education, and nursing practice improvement. The Council annually prepares and submits a report describing the activities of the Advisory Council including its findings and recommendations made by the council concerning the activities under this title. Meetings are held twice a year.

Specifically, HRSA is requesting nominations for voting members of the NACNEP representing leading authorities in the various fields of nursing, higher and secondary education, and associate degree schools of nursing; representatives of advanced education nursing groups (such as nurse practitioners, nurse midwives, and nurse anesthetists); hospitals and other institutions and organizations which provide nursing services; practicing professional nurses; the general public; and full-time students enrolled in schools of nursing.

In making such appointments, the Secretary shall ensure a fair balance between the nursing professions, a broad geographic representation of members, and a balance between urban and rural members. Members shall be appointed based on their competence, interest, and knowledge of the mission of the profession involved. As required by PHS Act section 851(b)(3), the Secretary shall ensure the adequate representation of minorities. The majority of the NACNEP members shall be nurses.

HHS will consider nominations of all qualified individuals with the areas of subject matter expertise noted above. Individuals may nominate themselves or other individuals. Professional associations and organizations may nominate one or more qualified persons for membership. Nominations shall state that the nominee is willing to serve as a member of the NACNEP and appears to have no conflict of interest that would preclude the NACNEP membership. Potential candidates will be asked to provide detailed information concerning financial interests, consultancies, research grants, and/or contracts that might be affected by recommendations of the NACNEP to permit evaluation of possible sources of conflicts of interest.

A nomination package should include the following information for each nominee:

(1) A letter of nomination from an employer, a colleague, or a professional organization stating the name, affiliation, and contact information for the nominee, the basis for the nomination (i.e., what specific attributes, perspectives, and/or skills does the individual possess that would benefit the workings of the NACNEP, and the nominee's field(s) of expertise);

(2) A letter of interest from the nominee stating the reasons they would like to serve on the NACNEP;

(3) A biographical sketch of the nominee, a copy of his/her curriculum vitae, and his/her contact information (address, daytime telephone number, and email address); and

(4) The name, address, daytime telephone number, and email address at which the nominator can be contacted.

Nominations will be considered as vacancies occur on the NACNEP. If you submitted a nomination more than four years ago, please resubmit an updated nomination to be considered for council vacancies.

HHS strives to ensure that the membership of HHS federal advisory committees are balanced in terms of points of view represented and the committee's function. The Department encourages nominations of qualified candidates from all groups and locations. Appointment to the NACNEP shall be made without discrimination on the basis of age, race, ethnicity, gender, sexual orientation, disability, and cultural, religious, or socioeconomic status.

Amy P. McNulty,
Acting Director, Division of Executive Secretariat.

[FR Doc. 2018-18344 Filed 8-23-18; 8:45 am]

BILLING CODE 4165-15-P